FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Action One Logistics, Inc. (NVO & OFF), 115 Fulford Avenue, Suite 102, Bel Air, MD 21014. Officers: Belinda E. Richardson, Vice President (QI), David S. Edwards, President, Application Type: QI Change.

Alpha Global Enterprise LLC dba ITS Container Line (NVO), 46 West Lincoln Avenue, Valley Stream, NY 11580. Officers: Philip Lam, Operating Manager (QI), Joseph Lam, Member, Application Type: New NVO License.

Altex US, LLC (NVO & OFF), 1 Saville Avenue, Eddystone, PA 19022. Officers: Natalia Henao, President (QI), Jorge I. Echeverri, Vice President, Application Type: New NVO & OFF License.

Andes Logistics USA LLC (NVO & OFF) 7500 NW 25 Street, #7, Miami, FL 33122. Officers: Jacqueline Galindo, Managing Member (QI), Cristobal Huidobro, Managing Member, Application Type: New NVO & OFF License.

Ark Transportation Ltd. (NVO & OFF), 17830 Englewood Drive, Suite 23, Middleburg Heights, OH 44130. Officer: George Hurst, Chief Executive Member (QI), Application Type: New NVO & OFF License.

Asecomer International Corporation dba Interworld Freight Inc. dba Junior Cargo, Inc. dba Intercontinental Lines Corp. (NVO & OFF), 8225 NW 80th Street, Miami, FL 33166. Officer: John O. Crespo, President (QI), Application Type: Add Trade Name Rolasa USA.

C J International, Inc. (OFF), 519 S. Ellwood Avenue, Baltimore, MD 21224. Officers: Shannon Alexander, Secretary (QI), Curt Perry, Director, Application Type: QI Change.

Cargo Freight Services, Ltd. (NVO), 510 Plaza Drive, Suite 2720, College Park, GA 30349. Officer: Alice Y. Chan, President (QI), Application Type: QI Change.

Concert Group Logistics, Inc. (NVO & OFF), 1430 Branding Avenue, Suite 150, Downers Grove, IL 60515. Officers: Dominick Muzi, President (QI), Gordon Devens, Secretary, Application Type: Add Trade Name XPO Global Logistics.

Embarque Tineo LLC (NVO & OFF), 431 River Street, Paterson, NJ 07524. Officers: Gilberto Tineo, Managing Member (QI), Franklyn Tineo, Member, Application Type: New NVO & OFF License.

Export Logistics & Shipping, Inc. (OFF), 608 Timber Bay Circle East, Oldsmar, FL 34677. Officer: Antonia E. Kliniewski, President (QI), Application Type: New OFF License.

Express Logistics Services, LLC (NVO & OFF), 4600 NW 74th Avenue, Miami, FL 33166. Officers: Klaus E. Minoprio, Manager (QI), Carlos J. Novoa, Managing Member, Application Type: New NVO & OFF.

Fortunella, Inc. dba Fu Yuan Logistics, Inc. (NVO & OFF), 11639 Goldring Road, Arcadia, CA 91006. Officers: Chris Lee, Vice President (QI), Christy Lee, President, Application Type: New NVO & OFF License.

Global Business Link Inc. (NVO), 3327 Hollins Ferry Road, Halethorpe, MD 21227. Officers: Gayton J. Thomas, CEO (QI), Abdullah W. Alsawi, President, Application Type: QI Change.

Global Transhipping Inc (OFF), 2801 NW 74th Avenue, Suite 204, Miami, FL 33122. Officer: Gus Mojica, President (QI), Application Type: New OFF License.

Icon Logistics Services LLC (OFF), 14725B Baltimore Avenue, Suite B, Laurel, MD 20707. Officers: Gbenga Yinusa, President (QI), Musiliu Adelaja, Member, Application Type: QI Change.

JMJ Logistics, Inc. (NVO & OFF), 320 NW 200 Avenue, Pembroke Pines, FL 33029. Officers: Jose C. Estrada, President (QI), Maria Estrada, Vice President, Application Type: QI and Add OFF Service.

Marine Express, Inc. (NVO), 249 Concordia Street, Mayaguez, PR 00680. Officers: Maribel M. Rivera, Vice President (QI), Nestor Gonzalez-Romero, President, Application Type: New NVO License.

Marisol International, LLC (NVO & OFF), 2424 W. Kingsley, Suite C, Springfield, MO 65807. Officers: Carie L. Samuel, Chief Compliance Officer (QI), Micah L. Hoist, President, Application Type: QI change and add Trade Name Marisol Worldwide, LLC.

Maruzen of America, Inc. dba Maruzen Container Lines (U.S.A.) (NVO & OFF), 19640 Rancho Way, Dominguez Hills, CA 90220. Officers: Yuji Inoue, Executive Vice President (QI), Hideaki Suzuki, Chairman, Application Type: QI Change.

Mirach Shipping, Inc. dba Marlin Shipping (NVO & OFF), 1162 Hasting Place, Baldwin, NY 11510. Officer: Kamran Ali, President (QI), Application Type: New NVO & OFF License.

Miragrown Logistics Corporation (NVO), 2370 West Carson Street, Suite 130, Torrance, CA 90501. Officers: Marianne Thai, Secretary (QI), Zhimin Wei, President, Application Type: Add Trade Name Lucky Consol Inc.

Mol Consolidation Service (America) Inc. (NVO & OFF), 2727 Paces Ferry Road, Building 2, Suite 600, Atlanta, GA 30307. Officers: Jeffrey M. Bumgardner, Senior Vice President (QI), Larry Wu, CEO, Application Type: New NVO & OFF License

One Freight Logistics Inc. (NVO & OFF), 3460 Wilshire Blvd., Suite 1114, Los Angeles, CA 90010. Officer: Hee Jung Yoo, President (QI), Application Type: New NVO & OFF License.

Overseas Group USA, LLC dba CSC Consol USA (NVO & OFF), 8201 NW 56th Street, Miami, FL 33166. Officer: Carlos A. Sanchez, Managing Member (QI), Application Type: QI Change.

Planet Distributors Corp. dba Planet Logistics (NVO & OFF), 671 West 18th Street, Hialeah, FL 33010. Officers: Omar Chaya, President, Mariela Masciave, Stockholder, Application Type: New NVO & OFF License.

Schooner Lines Company (NVO), 1821 Beyer Avenue, Floor 2D, Philadelphia, PA 19115. Officers: Mykola Chobotar, Chief Executive Manager (QI), James Madden, Chief Operating Manager, Application Type: QI Change.

Seagull Logistics, Inc. (NVO), 15105-D John J. Delany Drive, Suite 162, Charlotte, NC 28277. Officer: Inderjeet K. Harisinghani, President (QI), Application Type: New NVO License.

SGK ocean lines corporation (NVO & OFF), 7038 Sundance Meadows Lane, Richmond, TX 77407. Officers: Sumera Sanaullah, Vice President (QI), Uche Mozie, President, Application Type: New NVO & OFF License.

Transportation Insight, LLC (OFF), 328 1st Avenue NW, Hickory, NC 28601-6123. Officers: Rick Brumett, Vice President (QI), Paul Thompson, Chairman, Application Type: New OFF License.

Transtek Logistics, LLC dba Freight Logistics International (NVO), 3505 NW 107th Avenue, Suite C, Doral, FL 33178. Officers: Gabriel de Godoy, Manager (QI), Jeff Bader, Manager, Application Type: New NVO License.

Universal Concord Co., Inc. (NVO), 13353 Alondra Blvd., Suite 200C, Santa Fe Springs, CA 90670. Officers: Zhi Yong Xu, President (QI), Qin Fang Xu, Secretary, Application Type: New NVO License.

vmlog international logistics U.S.A. “L.L.C.” (NVO & OFF), 7025 Hodgson Memorial Drive, Suite B, Savannah, GA 31406. Officers: Carey Giffis, Vice President (QI), Francisco V. Mello, President, Application Type: New NVO & OFF License.

Volta Group International, LLC dba Volta Express International, LLC (OFF), 322 Chapanoke Road, Suite 107, Raleigh, NC 27603. Officers: Joan Atkins-Ansah, Member (QI), Smith N. Ansah, Member, Application Type: New OFF License.

By the Commission.
Dated: October 31, 2013.
Rachel E. Dickon,
Assistant Secretary.

[FR Doc. 2013-26584 Filed 11-5-13; 8:45 am]

BILLING CODE 6730-01-P